DEPARTMENT OF TRANSPORTATION

Federal Aviation Administration

Twentieth Meeting of the NextGen Advisory Committee (NAC)

AGENCY: Federal Aviation Administration (FAA), U.S. Department of Transportation (DOT).

ACTION: Twentieth Meeting of the NextGen Advisory Committee (NAC).

SUMMARY: The FAA is issuing this notice to advise the public of a meeting of the Twentieth Meeting of the NextGen Advisory Committee (NAC).

DATES: The meeting will be held February 22, 2017, 8:30 a.m.-3 p.m.

ADDRESSES: The meeting will be held at: The MITRE Corporation, MITRE 1 Auditorium, 7525 Colshire Drive, McLean, VA 22102.

FOR FURTHER INFORMATION CONTACT: Andy Cebula, NAC Secretariat, 202-330-0652, acebula@rtca.org,1150 18th Street NW., Suite 910, Washington, DC 20036, or by fax at (202) 833-9434, or Web site at http://www.rtca.org.

SUPPLEMENTARY INFORMATION: Pursuant to section 10(a)(2) of the Federal Advisory Committee Act (Pub. L. 92-463, 5 U.S.C., App.), notice is hereby given for a meeting of the Twentieth Meeting of the NextGen Advisory Committee (NAC). The agenda will include the following:

February 22, 2017, 8:30 a.m. to 3:00 p.m.

1. Opening of Meeting/Introduction of NAC Members—Chairman David Bronczek

2. Official Statement of Designated Federal Official—Victoria Wassmer, FAA Acting Deputy Administrator

3. Review and Approval of October 5, 2016 Meeting Summary and Revised Terms of Reference

4. Chairman's Report—Chairman Bronczek

5. FAA Report—FAA

6. NextGen Priorities Status: DataComm, Multiple Runway Operations, Surface, Performance Based Navigation (PBN)

7. Airline C/N/S Fleet Plans—Alaska Air, UPS; Supply Chain—Honeywell; ADS-B Update—FAA

8. FAA NextGen Plan

9. Value of NextGen and NAC Ad Hoc

10. Joint Analysis Team—Indianapolis International Airport (IND) Wake ReCat

11. Enhanced Surveillance Task Group—Interim Report

12. Summary of meeting and next steps

13. Closing Comments—DFO and NAC Chairman

14. Other business

15. Adjourn

Although the NAC meeting is open to the public, the meeting location has limited space and security protocols that require advanced registration.

U.S. Nationals: Please email bteel@rtca.org with name, state-issued driver's license/ID number and state of issuance, company, and phone number contact to pre-register no later than February 13, 2017.

Foreign Nationals: Please email bteel@rtca.org with name, company and country of citizenship, birth date and place of birth (city and country), passport and Visa Numbers, I-94 stamp and expiration date, employer and address (identify whether U.S. or non-U.S. owned), and phone number contact to pre-register no later than February 13, 2017.

With the approval of the Chairman, members of the public may present oral statements at the meeting. Persons wishing to present statements or obtain information should contact the person listed in the FOR FURTHER INFORMATION CONTACT section. Members of the public may present a written statement to the committee at any time.

Issued in Washington, DC, on February 2, 2017.
Mohannad Dawoud,
Management & Program Analyst, Partnership Contracts Branch, ANG-A17, NextGen, Procurement Services Division, Federal Aviation Administration.

[FR Doc. 2017-02459 Filed 2-6-17; 8:45 am]

BILLING CODE 4910-13-P